DEPARTMENT OF TRANSPORTATION

Coast Guard

33 CFR Part 117

[CGD01-02-100]

RIN 2115-AE47

Drawbridge Operation Regulations; Connecticut River, CT

AGENCY: Coast Guard, DOT.

ACTION: Notice of proposed rulemaking.

SUMMARY: The Coast Guard proposes to temporarily change the drawbridge operating regulations governing the operation of the Route 82 Bridge, at mile 16.8, across the Connecticut River at East Haddam, Connecticut. This temporary rule will allow the bridge to operate on a fixed opening schedule for recreational vessels and a notice schedule for commercial vessels, from 6 a.m. on October 15, 2002 through 6 p.m. on April 30, 2004. This action is necessary to facilitate major rehabilitation of the bridge.

DATES: Comments must reach the Coast Guard on or before October 10, 2002.

ADDRESSES: You may mail comments to Commander (obr), First Coast Guard District Bridge Branch, at 408 Atlantic Avenue, Boston, MA 02110-3350, or deliver them to the same address between 7 a.m. and 3 p.m., Monday through Friday, except Federal holidays. The telephone number is (617) 223-8364. The First Coast Guard District Bridge Branch, maintains the public docket for this rulemaking. Comments and material received from the public, as well as documents indicated in this preamble as being available in the docket, will become part of this docket and will be available for inspection or copying at the First Coast Guard District, Bridge Branch, 7 a.m. to 3 p.m., Monday through Friday, except Federal holidays.

FOR FURTHER INFORMATION CONTACT: Joseph Schmied, Project Officer, First Coast Guard District, (212) 668-7165.

SUPPLEMENTARY INFORMATION:

Regulatory Information

The Coast Guard has determined that good cause exists under the Administrative Procedure Act (5 U.S.C. 553) for a shortened comment period of thirty days instead of a sixty-day comment period and for making this rule effective in less than thirty days after publication in the Federal Register.

The Coast Guard believes that any delay encountered in this regulation's effective date would be unnecessary and contrary to the public interest because the repairs scheduled to be performed under this temporary rule were originally scheduled to be performed in 2001, but were cancelled due to a funding shortage. Subsequent to that, the bridge has continued to deteriorate, making it necessary to perform these repairs to the bridge with all due speed to ensure the safe, reliable, and continued operation of the bridge.

The Coast Guard and the bridge owner coordinated this temporary operating schedule with the mariners that normally transit this bridge. No objections were received. A similar operating schedule was established several years ago to facilitate bridge repairs at the Route 82 Bridge with satisfactory results.

The Coast Guard believes the shortened comment period is reasonable as a result of all the above stated reasons.

Request for Comments

We encourage you to participate in this rulemaking by submitting comments or related material. If you do so, please include your name and address, identify the docket number for this rulemaking (CGD01-02-100), indicate the specific section of this document to which each comment applies, and give the reason for each comment. Please submit all comments and related material in an unbound format, no larger than 8½ by 11 inches, suitable for copying. If you would like to know if they reached us, please enclose a stamped, self-addressed postcard or envelope. We will consider all comments and material received during the comment period. We may change this proposed rule in view of them.

Public Meeting

We do not now plan to hold a public meeting. But you may submit a request for a meeting by writing to the First Coast Guard District, Bridge Branch, at the address under ADDRESSES explaining why one would be beneficial. If we determine that one would aid this rulemaking, we will hold one at a time and place announced by a later notice in the Federal Register.

Background and Purpose

The Route 82 Bridge has a vertical clearance of 22 feet at mean high water, and 25 feet at mean low water in the closed position. The existing drawbridge operating regulations are listed at 33 CFR 117.205(c), and require the bridge to open on signal at all times; except that, from May 15 to October 31, 9 a.m. to 9 p.m., the bridge shall open for recreational vessels on the hour and half hour only and for commercial vessels on signal.

The Route 82 Bridge was scheduled for major repairs in the summer of 2001, but due to a funding short fall the work was delayed. Subsequent to that, the bridge has continued to deteriorate. Funding has now been made available and the necessary repairs should be performed with due speed to ensure safe, reliable, and continued operation of the bridge.

The bridge owner, Connecticut Department of Transportation, has requested a temporary rule to allow the bridge to open for recreational and commercial vessels at specific times; however, commercial vessels may obtain unscheduled openings at any time provided they give a twenty-four hour notice with a two-hour confirmation to the bridge tender.

The bridge owner has also requested one seven day bridge closure, two eight-hour closures and one twenty-four hour bridge closure required to facilitate the bridge repairs. The exact dates for the above closures are not known at this time and will be determined as construction progresses. The Coast Guard plans to publish additional rulemaking once the exact times and dates of the above closures are known.

Discussion of Proposed Rule

The proposed operating schedule that would be in effect at the Route 82 Bridge from 6 a.m. on October 15, 2002 through 6 p.m. on April 30, 2004, is as follows:

From November 1 through July 6, the draw would open on signal at 5:30 a.m., 1:30 p.m., and 8 p.m., daily.

From July 7 through October 31, the draw would open on signal Monday through Thursday at 6:30 a.m., 1:30 p.m., and 8 p.m., with one additional opening on Friday at 11:30 p.m.; three additional openings on Saturday at 9:30 a.m., 4 p.m., and 11:30 p.m.; and two additional openings on Sunday at 9:30 a.m. and 4 p.m.

The draw shall open on signal at any time for commercial vessels provided a twenty-four hour notice with a two-hour confirmation is given.

The Coast Guard and the bridge owner have successfully coordinated the above temporary operating schedule with the mariners. The Coast Guard believes this temporary rule is reasonable as a result of the above information.

Regulatory Evaluation

This proposed rule is not a “significant regulatory action” under section 3(f) of Executive Order 12866, Regulatory Planning and Review, and does not require an assessment of potential costs and benefits under 6(a)(3) of that Order. The Office of Management and Budget has not reviewed it under that Order. It is not “significant” under the regulatory policies and procedures of the Department of Transportation (DOT) (44 FR 11040, Feb. 26, 1979).

We expect the economic impact of this proposed rule to be so minimal that a full Regulatory Evaluation, under paragraph 10e of the regulatory policies and procedures of DOT, is unnecessary. This conclusion is based on the fact that vessels that require the bridge to open will not be prevented from transiting the bridge but will simply be required to plan their transits according to the temporary operating schedule. Vessels that can pass under the bridge without a bridge opening may do so at all times.

Small Entities

Under the Regulatory Flexibility Act (5 U.S.C. 601-612), we considered whether this proposed rule would have a significant economic impact on a substantial number of small entities. The term “small entities” comprises small businesses, not-for-profit organizations that are independently owned and operated and are not dominant in their fields, and governmental jurisdictions with populations of less than 50,000.

The Coast Guard certifies under section 5 U.S.C. 605(b), that this proposed rule would not have a significant economic impact on a substantial number of small entities. This conclusion is based upon the fact that vessels that require bridge openings will not be prevented from transiting the bridge but will simply be required to plan their transits according to the temporary operating schedule. Vessels that can pass under the bridge without a bridge opening may do so at all times.

If you think that your business, organization, or governmental jurisdiction qualifies as a small entity and that this rule would have a significant economic impact on it, please submit a comment (see ADDRESSES) explaining why you think it qualifies and how and to what degree this rule would economically affect it.

Collection of Information

This proposed rule would call for no new collection of information under the Paperwork Reduction Act of 1995 (44 U.S.C. 3501-3520.).

Federalism

A rule has implications for federalism under Executive Order 13132, Federalism, if it has a substantial direct effect on State or local governments and would either preempt State law or impose a substantial direct cost of compliance on them. We have analyzed this proposed rule under that Order and have determined that it does not have implications for federalism.

Unfunded Mandates Reform Act

The Unfunded Mandates Reform Act of 1995 (2 U.S.C. 1531-1538) requires Federal agencies to assess the effects of their discretionary regulatory actions. In particular, the Act addresses actions that may result in the expenditure by a State, local, or tribal government, in the aggregate, or by the private sector of $100,000,000 or more in any one year. Though this proposed rule would not result in such an expenditure, we do discuss the effects of this rule elsewhere in this preamble.

Taking of Private Property

This proposed rule would not effect a taking of private property or otherwise have taking implications under E.O. 12630, Governmental Actions and Interference with Constitutionally Protected Property Rights.

Civil Justice Reform

This proposed rule meets applicable standards in sections 3(a) and 3(b)(2) of Executive Order 12988, Civil Justice Reform, to minimize litigation, eliminate ambiguity, and reduce burden.

Protection of Children

We have analyzed this proposed rule under Executive Order 13045, Protection of Children from Environmental Health Risks and Safety Risks. This rule is not an economically significant rule and would not create an environmental risk to health or risk to safety that may disproportionately affect children.

Indian Tribal Governments

This rule does not have tribal implications under Executive Order 13175, Consultation and Coordination with Indian Tribal Governments, because it would not have a substantial direct effect on one or more Indian tribes, on the relationship between the Federal Government and Indian tribes, or on the distribution of power and responsibilities between the Federal Government and Indian tribes.

To help the Coast Guard establish regular and meaningful consultation and collaboration with Indian and Alaskan Native tribes, we published a notice in the Federal Register (66 FR 36361, July 11, 2001) requesting comments on how to best carry out the Order. We invite your comments on how this proposed rule might impact tribal governments, even if that impact may not constitute a “tribal implication” under the Order.

Energy Effects

We have analyzed this rule under Executive Order 13211, Actions Concerning Regulations That Significantly Affect Energy Supply, Distribution, or Use. We have determined that it is not a “significant energy action” under that order because it is not a “significant regulatory action” under Executive Order 12866 and is not likely to have a significant adverse effect on the supply, distribution, or use of energy. It has not been designated by the Administrator of the Office of Information and Regulatory Affairs as a significant energy action. Therefore, it does not require a Statement of Energy Effects under Executive Order 13211.

Environment

We considered the environmental impact of this proposed rule and concluded that, under figure 2-1, paragraph (32)(e), of Commandant Instruction M16475.1d, this proposed rule is categorically excluded from further environmental documentation because promulgation of drawbridge regulations have been found not to have a significant effect on the environment. A written “Categorical Exclusion Determination” is not required for this rule.

List of Subjects in 33 CFR Part 117

Bridges.

Regulations

For the reasons set out in the preamble, the Coast Guard proposes to amend 33 CFR part 117 as follows:

PART 117—DRAWBRIDGE OPERATION REGULATIONS

1. The authority citation for part 117 continues to read as follows:

Authority: 33 U.S.C. 499; 49 CFR 1.46; 33 CFR 1.05-1(g); section 117.255 also issued under the authority of Pub. L. 102-587, 106 Stat. 5039.

2. From October 15, 2002, through April 30, 2004, § 117.205 is temporarily amended by suspending paragraph (c) and adding a new paragraph (d) to read as follows:

§ 117.205 Connecticut River.

* * * * *

(d) The draw of the Route 82 Bridge, mile 16.8, shall operate as follows:

(1) From November 1 through July 6, the draw shall open on signal at 5:30 a.m., 1:30 p.m., and 8 p.m., daily.

(2) From July 7 through October 31 Monday through Thursday, the draw shall open on signal at 6:30 a.m., 1:30 p.m., and 8 p.m., with one additional opening on Friday at 11:30 p.m., three additional openings on Saturday at 9:30 a.m., 4 p.m., and 11:30 p.m., and two additional openings on Sunday at 9:30 a.m., and 4 p.m.

(3) The draw shall open on signal for commercial vessels at all times provided a twenty-four hour advance notice with a two-hour confirmation is given.

Dated: August 29, 2002.
J.L. Grenier,
Captain, Coast Guard, Acting Commander, First Coast Guard District.

[FR Doc. 02-22947 Filed 9-9-02; 8:45 am]

BILLING CODE 4910-15-P